DEPARTMENT OF TRANSPORTATION

Federal Highway Administration

Placer Parkway Partially Revised Draft Tier I Environmental Impact Statement

DATE: January 2009.

AGENCY: United States Department of Transportation, Federal Highway Administration.

ACTION: Notice of Availability (NOA) of the Placer Parkway Partially Revised Draft Tier I Environmental Impact Statement (EIS).

SUMMARY: The Federal Highway Administration (FHWA) is issuing this notice to advise the public of the availability of a Partially Revised Draft Tier 1 EIS for the Placer Parkway Corridor Preservation Project, a proposed transportation corridor in western Placer and eastern Sutter Counties, California. Specifically, the action being considered and evaluated is to select and preserve a 500- to 1,000-foot-wide corridor in the project study area, within which the future four- or six-lane Placer Parkway may be constructed. Placer Parkway is intended to reduce anticipated congestion on both the local and regional transportation system and to advance economic development goals in south Sutter County and southwestern Placer County.

Five corridor build alternatives and a no-build alternative are evaluated in the Draft Tier 1 EIS. Although the Parkway would be designed and construction-level impacts analyzed during Tier 2, for the purpose of the Draft Tier 1 EIS, several assumptions have been made about potential design and configuration concepts. These assumptions would be subject to further development and refinement, and specific decisions about design of the roadway would be made during the Tier 2 process. The Parkway would be a high-speed, limited access roadway. Conceptually, interchanges would be located at SR 70/99 (at one-half mile north of Riego Road or at Sankey Road), one or two locations to be determined in southern Sutter County, Fiddyment Road, Foothills Boulevard, and SR 65 at Whitney Ranch Parkway. Access would be restricted for the 7-mile segment between Pleasant Grove Road and Fiddyment Road. The Draft Tier 1 EIS assumes no interchanges in this segment.

Revisions to the Draft Tier 1 EIS and Additional Analyses in the Partially Revised Draft Tier 1 EIS: The Partially Revised Draft Tier 1 EIS serves as a supplement to the Draft Tier 1 EIS issued in June 2007, to reflect additional analyses developed since the publication of the prior draft. The Partially Revised Draft Tier 1 EIS provides revisions to the Draft Tier 1 EIS, including updates to farmland classification data and greenhouse gas emissions. It also includes additional analyses of growth inducement, secondary and indirect impacts and cumulative impacts based on hypothetical future scenarios prepared for the U.S. Environmental Protection Agency and the U.S. Army Corps of Engineers.

Public Review and Comment Period: Comments regarding the Partially Revised Draft Tier 1 EIS shall be accepted beginning on January 30, 2009 and must be submitted in writing by 5 p.m. on March 15, 2009 to Placer County Transportation Planning Agency (PCTPA) via regular mail to PCTPA, Attention: Celia McAdam, Executive Director, 299 Nevada St., Auburn, California 95603, or via e-mail to pctpa@pctpa.net.

FOR FURTHER INFORMATION CONTACT: Ms. Celia McAdam, Executive Director, 299 Nevada St., Auburn, California 95603, or via e-mail to pctpa@pctpa.net.

SUPPLEMENTARY INFORMATION:

Electronic Access

An electronic copy of this document may be downloaded by using a computer, modem and suitable communications software from the Government Printing Office's Electronic Bulletin Board Service at (202) 512-1661. Internet users may reach the Office of Federal Register's home page at http://www.nara.gov/fedreg and the Government Printing Office's Web page at http://www.access.gpo.gov.nara.

Background: The FHWA, in cooperation with the California Department of Transportation (Caltrans), Sutter County, and the South Placer Regional Transportation Authority (SPRTA), prepared a Partially Revised Draft Tier 1 EIS on a proposal to select and preserve a corridor for the future construction of Placer Parkway, a new east-west roadway linking State Route (SR) 70/99 in Sutter County east to SR 65 in Placer County. Placer Parkway is intended to reduce anticipated congestion on both the local and regional transportation system and to advance economic development goals in south Sutter County and southwestern Placer County.

Specifically, the action being considered and evaluated by FHWA, Caltrans and SPRTA is to select and preserve a 500- to 1,000-foot-wide corridor in the project study area, within which the future four- or six-lane Placer Parkway may be constructed. Five or six interchanges are proposed, depending on the corridor alignment alternative.

The proposed Parkway project is identified in the Sacramento Council of Government's (SACOG) 2025 Metropolitan Transportation Plan (MTP) and the 2022 Placer County Regional Transportation Plan. The planning for Placer Parkway involves two phases: (1) The present action, selection of a corridor (titled the Placer Parkway Corridor Preservation Project), and (2) the future selection of a precise alignment within the corridor and a decision whether or not to build the Parkway. If a build alternative is selected and pursued after the second phase, the ultimate Placer Parkway project would be constructed and operated. Each phase will be subject to its own environmental review, a process known as “tiered” environmental review under both state and federal law. The selection of a corridor is the subject of the Tier 1 EIS.

The Placer Parkway Corridor Preservation Draft Tier 1 EIS was completed on June 29, 2007. It was circulated for public comment on July 2, 2007. The comment period ended on September 10, 2007. To the degree feasible, the Draft Tier 1 EIS reviewed the reasonably foreseeable environmental effects of the construction and operation of the Parkway. Selection of a more precise alignment within the corridor, and construction and operation of the Parkway, will be the subject of a later Tier 2 environmental document.

The Revised Draft Tier 1 EIS serves as a supplement to the Draft Tier 1 EIS issued in June 2007, to reflect additional analyses developed since the publication of the prior draft. The Revised Draft Tier 1 EIS provides revisions to the Draft Tier 1 EIS, including updates to farmland classification data, and greenhouse gas emissions. It also includes additional analyses of growth inducement, secondary and indirect impacts and cumulative impacts based on hypothetical future scenarios prepared for the U.S. Environmental Protection Agency and the U.S. Army Corps of Engineers.

To ensure that a full range of issues related to this proposed action are addressed and all significant issues identified, comments and suggestions are invited from all interested parties. Comments or questions concerning this proposed action should be directed to the FHWA at the address provided above or to Celia McAdam, Executive Director, PCTPA, 299 Nevada Street, Auburn, CA 95603, no later than March 8, 2009.

The public, as well as agencies and local jurisdictions, are also invited to comment on the Partially Revised Draft Tier 1 EIS at either of two public hearings:

• February 23, 2009—6 p.m. at the Veterans Memorial Community Building, 1425 Veterans Memorial Circle in Yuba City, California.

• February 25, 2009—10:45 a.m. at the Placer County Board of Supervisors Chambers (The Domes), 175 Fulweiler Avenue, Auburn, CA 95603.

Availability of the Partially Revised Draft Tier 1 EIS for Public Review: Copies are available for review at the following locations:

Placer County Transportation Planning Agency, 299 Nevada Street, Auburn, CA

Placer County Planning Department, 3091 County Center Drive, Auburn, CA

Placer County Public Works Department, 3091 County Center Drive, Auburn, CA

Placer County Library, 350 Nevada Street, Auburn, CA

Placer County Library, Loomis, 6050 Library Drive, Loomis, CA

Sutter County Library, Main Branch, 7504 Forbes Avenue, Yuba City, CA

Sutter County Library, Pleasant Grove Branch, 3093 Howsley Road, Pleasant Grove, CA

Sutter County Library, Browns Branch, 1248 Pacific Avenue, Rio Oso, CA

Sacramento County Public Library, 828 I Street, Sacramento, CA

California State University, 6000 J Street, Sacramento, CA

Sutter County Planning Department, 1130 Civic Center Blvd., Yuba City, CA

Sacramento County Planning Department, 827 7th Street, Room 230, Sacramento, CA

Roseville Public Library—Downtown, 225 Taylor Street, Roseville, CA

Roseville Public Library—Maidu 1530 Maidu Drive, Roseville, CA

Rocklin Library, 5400 Fifth Street, Rocklin, CA

Lincoln Library, 590 Fifth Street, Lincoln, CA

Sierra College Library, 5000 Rocklin Road, Rocklin, CA

Sacramento County Library, North Natomas, 2500 New Market Drive, Sacramento, CA

Sacramento County Library, North Highlands—Antelope, 4235 Antelope Road, Antelope, CA

Copies can also be obtained electronically from PCTPA's project Web site at http://www.pctpa.net. Additional information, including documents referenced in the Partially Revised Draft Tier 1 EIS, may be obtained by contacting Celia McAdam at the Placer County Transportation Planning Agency at 530-823-4030, Monday through Friday between the hours of 9 a.m. and 5 p.m.

Issued on: January 22, 2009.
Sandra Garcia-Aline,
Director, Local Agency Programs, Federal Highway Administration, Sacramento, CA.

[FR Doc. E9-1797 Filed 1-29-09; 8:45 am]

BILLING CODE 4910-22-P